DEPARTMENT OF EDUCATION

Notice of Proposed Information Collection Requests; Comment Request

AGENCY: Department of Education.

ACTION: Correction Notice.

SUMMARY: On February 12, 2008, the Department of Education published a comment period notice in the Federal Register (Page 8037, Column 1) for the information collection, “Binational Migrant Education Program (BMEP) State MEP Director Survey”. The title is hereby corrected to “Survey on Key Demographics and Needs of the Binational Migratory Children” and the Type of Review is corrected to New.

The IC Clearance Official, Regulatory Information Management Services, Office of Management, hereby issues a correction notice as required by the Paperwork Reduction Act of 1995.

Dated: April 24, 2008.
Angela C. Arrington,
IC Clearance Official, Regulatory Information Management Services, Office of Management.

[FR Doc. E8-9442 Filed 4-29-08; 8:45 am]

BILLING CODE 4000-01-P